DEPARTMENT OF EDUCATION

[Docket No. ED-2014-ICCD-0051]

Agency Information Collection Activities; Submission to the Office of Management and Budget for Review and Approval; Comment Request; SURVEY ON THE USE OF FUNDS UNDER TITLE II, PART A (“IMPROVING TEACHER QUALITY STATE GRANTS SUBGRANTS TO LEAS”)

AGENCY: Office of Elementary and Secondary Education (OESE), Department of Education (ED).

ACTION: Notice.

SUMMARY: In accordance with the Paperwork Reduction Act of 1995 (44 U.S.C. chapter 3501 et seq.), ED is proposing a revision of an existing information collection.

DATES: Interested persons are invited to submit comments on or before July 25, 2014.

ADDRESSES: Comments submitted in response to this notice should be submitted electronically through the Federal eRulemaking Portal at http://www.regulations.gov by selecting Docket ID number ED-2014-ICCD-0051 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Daphne Kaplan, 202-401-7949.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: SURVEY ON THE USE OF FUNDS UNDER TITLE II, PART A (“IMPROVING TEACHER QUALITY STATE GRANTS SUBGRANTS TO LEAS”).

OMB Control Number: 1810-0618.

Type of Review: A revision of an existing information collection.

Respondents/Affected Public: State, Local, or Tribal Governments.

Total Estimated Number of Annual Responses: 850.

Total Estimated Number of Annual Burden Hours: 4,850.

Abstract: The Elementary and Secondary Education Act of 1965, as amended, provides funds to districts to improve the quality of their teaching and principal force and raise student achievement. These funds are provided to districts through Title II, Part A (Improving Teacher Quality State Grants Sub grants to Local Educational Agencies (LEA)). The purpose of this survey is for the U.S. Department of Education to have a better understanding of how districts use these funds. The survey also collects information on high-quality professional development in LEAs. In addition to the LEA survey, the package also includes a short survey for State Educational Agencies (SEA) that provides information on fiscal year allocations of Title II, Part A funds made to the LEAs selected for participation in the LEA survey.

This OMB clearance request is to continue these analyses using a similar data collection instrument and sampling plan for the 2014-2015 school year and subsequent years. Minor changes to the LEA survey are requested. No changes to the State Educational Agency (SEA) survey are required.

Dated: June 19, 2014.
Tomakie Washington,
Acting Director, Information Collection Clearance Division, Privacy, Information and Records Management Services, Office of Management.

[FR Doc. 2014-14783 Filed 6-24-14; 8:45 am]

BILLING CODE 4000-01-P